ENVIRONMENTAL PROTECTION AGENCY

40 CFR Part 52

[WV101-6038; FRL-8273-7]

Approval and Promulgation of Air Quality Implementation Plans; West Virginia; Update to Materials Incorporated by Reference

AGENCY: Environmental Protection Agency (EPA).

ACTION: Final rule; Notice of administrative change.

SUMMARY: EPA is updating the materials submitted by West Virginia that are incorporated by reference (IBR) into the State Implementation Plan (SIP). The regulations affected by this update have been previously submitted by the West Virginia Department of Environmental Protection and approved by EPA. This update affects the SIP materials that are available for public inspection at the National Archives and Records Administration (NARA), the Air and Radiation Docket and Information Center located at EPA Headquarters in Washington, DC, and the Regional Office.

EFFECTIVE DATE: This action is effective February 28, 2007.

ADDRESSES: SIP materials which are incorporated by reference into 40 CFR part 52 are available for inspection at the following locations: Air Protection Division, U.S. Environmental Protection Agency, Region III, 1650 Arch Street, Philadelphia, Pennsylvania 19103; the Air and Radiation Docket and Information Center, EPA Headquarters Library, Room Number 3334, EPA West Building, 1301 Constitution Ave., NW., Washington, DC 20460, and the National Archives and Records Administration. If you wish to obtain materials from a docket in the EPA Headquarters Library, please call the Office of Air and Radiation (OAR) Docket/Telephone number: (202) 566-1742; or the National Archives and Records Administration (NARA). For information on the availability of this material at NARA, call (202) 741-6030, or go to: http://www.archives.gov/federal_register/code_of_federal_regulations/ibr_locations.html.

FOR FURTHER INFORMATION CONTACT: Harold A. Frankford, (215) 814-2108 or by e-mail at frankford.harold@epa.gov.

SUPPLEMENTARY INFORMATION: The SIP is a living document which the State revises as necessary to address the unique air pollution problems. Therefore, EPA from time to time must take action on SIP revisions containing new and/or revised regulations to make them part of the SIP. On May 22, 1997 (62 FR 27968), EPA revised the procedures for incorporating by reference Federally-approved SIPs, as a result of consultations between EPA and the Office of the Federal Register (OFR). The description of the revised SIP document, IBR procedures and “Identification of plan” format are discussed in further detail in the May 22, 1997 Federal Register document. On February 10, 2005 (70 FR 7024), EPA published a Federal Register beginning the new IBR procedure for West Virginia. In this document, EPA is doing the following:

1. Announcing the update to the IBR material as of December 15, 2006.

2. Making corrections to the following entries listed in the paragraph 52.2520(c) chart, as described below:

a. 45 CSR 14, “State citation [Chapter 16-20 or 45 CSR]” column—revising the entries for the regulation citation and Sections 45-14-2, 45-14-3, and 45-14-19.

b. 45 CSR 14, “Title/subject” column—revising the entry for Section 45-14-25.

c. 45 CSR 14, “State effective date” column, all entries—revising the effective date from “6/2/05” to “6/1/05.”

d. 45 CSR 19—Adding entries for Tables 45-19A and 45-19B. These tables were part of the regulatory text of 45 CSR 19 which EPA approved as a revision of the West Virginia SIP on November 2, 2006 (71 FR 64668), but were inadvertently omitted from the amended rule for 40 CFR 52.2520(c) published at 71 FR 64670.

e. 45 CSR 19, “State citation [Chapter 16-20 or 45 CSR]” column—revising the entries for the regulation citation and Sections 45-14-2, 45-14-3, and 45-14-17.

f. 45 CSR 19, “Title/subject” column—revising the entry for Section 45-19-23.

g. 45 CSR 19, “State effective date” column, all entries—revising the effective date from “6/2/05” to “6/1/05.”

h. 45 CSR 14 and 45 CSR 19, “Additional explanation at 40 CFR 52.2565” column, all entries—adding the SIP effective date for each entry.

3. Making corrections to the title of the “Additional information” column in the paragraph 52.2520(d) chart.

EPA has determined that today's rule falls under the “good cause” exemption in section 553(b)(3)(B) of the Administrative Procedures Act (APA) which, upon finding “good cause,” authorizes agencies to dispense with public participation, and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by removing outdated citations and incorrect chart entries.

Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

EPA has also determined that the provisions of section 307(b)(1) of the Clean Air Act pertaining to petitions for judicial review are not applicable to this action. Prior EPA rulemaking actions for each individual component of the West Virginia SIP compilations had previously afforded interested parties the opportunity to file a petition for judicial review in the United States Court of Appeals for the appropriate circuit within 60 days of such rulemaking action. Thus, EPA sees no need in this action to reopen the 60-day period for filing such petitions for judicial review for this “Identification of plan” reorganization update action for West Virginia.

List of Subjects in 40 CFR Part 52

Environmental protection, Air pollution control, Carbon monoxide, Incorporation by reference, Intergovernmental relations, Lead, Nitrogen dioxide, Ozone, Particulate matter, Reporting and record keeping requirements, Sulfur oxides, Volatile organic compounds.

Dated: January 18, 2007.
Donald S. Welsh,
Regional Administrator, Region III.

40 CFR part 52 is amended as follows:

PART 52—[AMENDED]

1. The authority citation for part 52 continues to read as follows:

Authority: 42.U.S.C. 7401 et seq.

Subpart XX—West Virginia

2. Section 52.2520 is amended by revising paragraphs (b), (c), and (d) to read as follows:

§ 52.2520 Identification of plan.

* * * * *

(b) Incorporation by reference.

(1) Material listed as incorporated by reference in paragraphs (c) and (d) was approved for incorporation by reference by the Director of the Federal Register in accordance with 5 U.S.C. 552(a) and 1 CFR part 51. Material incorporated as it exists on the date of the approval, and notice of any change in the material will be published in the Federal Register. Entries in paragraphs (c) and (d) of this section with EPA approval dates on or after December 15, 2006 will be incorporated by reference in the next update to the SIP compilation.

(2) EPA Region III certifies that the rules/regulations provided by EPA at the addresses in paragraph (b)(3) of this section are an exact duplicate of the officially promulgated State rules/regulations which have been approved as part of the State implementation plan as of December 15, 2006.

(3) Copies of the materials incorporated by reference may be inspected at the EPA Region III Office at 1650 Arch Street, Philadelphia, PA 19103; the EPA, Air and Radiation Docket and Information Center, Room Number 3334, EPA West Building, 1301 Constitution Avenue, NW., Washington, DC 20460; or at the National Archives and Records Administration (NARA). For information on the availability of this material at NARA, call 202-741-6030, or go to: http://www.archives.gov/federal_register/code_of_federal_regulations/ibr_locations.html.

(c) EPA-Approved Regulations

EPA-Approved Regulations in the West Virginia SIP
State citation [Chapter 16-20 or 45 CSR ] | Title/subject | State effective date | EPA approval date | Additional explanation/ citation at 40 CFR § 52.2565
[45 CSR] Series 1 NOX Budget Trading Program as a Means of Control and Reduction of Nitrogen Oxides
Section 45-1-1 | General | 5/1/06 | 9/28/06 71 FR 56881
Section 45-1-2 | Definitions | 5/1/06 | 9/28/06 71 FR 56881
Section 45-1-3 | Acronyms | 5/1/06 | 9/28/06 71 FR 56881
Section 45-1-4 | NOX Budget Trading Program Applicability | 5/1/06 | 9/28/06 71 FR 56881
Section 45-1-5 | Retired Unit Exemption | 5/1/06 | 9/28/06 71 FR 56881
Section 45-1-6 | NOX Budget Trading Program Standard Requirements | 5/1/02 | 5/10/02 67 FR 37133 | (c)(46)
Section 45-1-7 | Computation of Time | 5/1/02 | 5/10/02 67 FR 37133 | (c)(46)
Section 45-1-10 | Authorization and Responsibilities of the NOX Authorized Account Representative | 5/1/02 | 5/10/02 67 FR 37133 | (c)(46)
Section 45-1-11 | Alternate NOX Authorized Account Representative | 5/1/02 | 5/10/02 67 FR 37133 | (c)(46)
Section 45-1-12 | Changing the NOX Authorized Account Representative and the Alternate NOX Authorized Account Representative; Changes in Owners and Operators | 5/1/02 | 5/10/02 67 FR 37133 | (c)(46)
Section 45-1-13 | Account Certificate of Representation | 5/1/02 | 5/10/02 67 FR 37133 | (c)(46)
Section 45-1-14 | Objections Concerning the NOX Authorized Account Representative | 5/1/02 | 5/10/02 67 FR 37133 | (c)(46)
Section 45-1-20 | General NOX Budget Trading Program Permit Requirements | 5/1/02 | 5/10/02 67 FR 37133 | (c)(46)
Section 45-1-21 | NOX Budget Permit Applications | 5/1/02 | 5/10/02 67 FR 37133 | (c)(46)
Section 45-1-22 | Information Requirements for NOX Budget Permit Applications | 5/1/06 | 9/28/06 71 FR 56881
Section 45-1-23 | NOX Budget Permit Contents | 5/1/02 | 5/10/02 67 FR 37133 | (c)(46)
Section 45-1-24 | NOX Budget Permit Revisions | 5/1/02 | 5/10/02 67 FR 37133 | (c)(46)
Section 45-1-30 | Compliance Certification Report | 5/1/02 | 5/10/02 67 FR 37133 | (c)(46)
Section 45-1-31 | Secretary's and Administrator's Action on Compliance Certifications | 5/1/02 | 5/10/02 67 FR 37133 | (c)(46)
Section 45-1-40 | State NOX Trading Program Budget | 5/1/02 | 5/10/02 67 FR 37133 | (c)(46)
Section 45-1-41 | Timing Requirements for State NOX Allowance Allocations | 5/1/02 | 5/10/02 67 FR 37133 | (c)(46)
Section 45-1-42 | State NOX Allowance Allocations | 5/1/02 | 5/10/02 67 FR 37133 | (c)(46)
Section 45-1-43 | Compliance Supplement Pool | 5/1/02 | 5/10/02 67 FR 37133 | (c)(46)
Section 45-1-50 | NOX Allowance Tracking System Accounts | 5/1/02 | 5/10/02 67 FR 37133 | (c)(46)
Section 45-1-51 | Establishment of Accounts | 5/1/02 | 5/10/02 67 FR 37133 | (c)(46)
Section 45-1-52 | NOX Allowance Tracking System Responsibilities of NOX Authorized Account Representative | 5/1/02 | 5/10/02 67 FR 37133 | (c)(46)
Section 45-1-53 | Recordation of NOX Allowance Allocations | 5/1/02 | 5/10/02 67 FR 37133 | (c)(46)
Section 45-1-54 | Compliance | 5/1/02 | 5/10/02 67 FR 37133 | (c)(46)
Section 45-1-55 | NOX Allowance Banking | 5/1/02 | 5/10/02 67 FR 37133 | (c)(46)
Section 45-1-56 | Account Error | 5/1/02 | 5/10/02 67 FR 37133 | (c)(46)
Section 45-1-57 | Closing of General Accounts | 5/1/02 | 5/10/02 67 FR 37133 | (c)(46)
Section 45-1-60 | Submission of NOX Allowance Transfers | 5/1/02 | 5/10/02 67 FR 37133 | (c)(46)
Section 45-1-61 | Allowance Transfer Recordation | 5/1/02 | 5/10/02 67 FR 37133 | (c)(46)
Section 45-1-62 | Notification | 5/1/02 | 5/10/02 67 FR 37133 | (c)(46)
Section 45-1-70 | General Monitoring Requirements | 5/1/06 | 9/28/06 71 FR 56881
Section 45-1-71 | Initial Certification and Recertification Procedures | 5/1/06 | 9/28/06 71 FR 56881
Section 45-1-72 | Out of Control Periods | 5/1/06 | 9/28/06 71 FR 56881
Section 45-1-73 | Notifications | 5/1/02 | 5/10/02 67 FR 37133 | (c)(46)
Section 45-1-74 | Recordkeeping and Reporting | 5/1/06 | 9/28/06 71 FR 56881
Section 45-1-75 | Petitions | 5/1/02 | 5/10/02 67 FR 37133 | (c)(46)
Section 45-1-76 | Additional Requirements to Provide Heat Input Data | 5/1/02 | 5/10/02 67 FR 37133 | (c)(46)
Section 45-1-80 | Individual Opt-in Applicability | 5/1/02 | 5/10/02 67 FR 37133 | (c)(46)
Section 45-1-81 | Opt-in General Requirements | 5/1/02 | 5/10/02 67 FR 37133 | (c)(46)
Section 45-1-82 | Opt-in NOX Authorized Account Representative | 5/1/02 | 5/10/02 67 FR 37133 | (c)(46)
Section 45-1-83 | Applying for NOX Budget Opt-in Permit | 5/1/02 | 5/10/02 67 FR 37133 | (c)(46)
Section 45-1-84 | Opt-in Process | 5/1/02 | 5/10/02 67 FR 37133 | (c)(46)
Section 45-1-85 | NOX Budget Opt-in Permit Contents | 5/1/02 | 5/10/02 67 FR 37133 | (c)(46)
Section 45-1-86 | Withdrawal From NOX Budget Trading Program | 5/1/02 | 5/10/02 67 FR 37133 | (c)(46)
Section 45-1-87 | Change in Regulatory Status | 5/1/02 | 5/10/02 67 FR 37133 | (c)(46)
Section 45-1-88 | NOX Allowance Allocations to Opt-in Units | 5/1/02 | 5/10/02 67 FR 37133 | (c)(46)
Section 45-1-89 | Appeal Procedures | 5/1/06 | 9/28/06 71 FR 56881 | New Section.
Section 45-1-90 | Requirements for Stationary Internal Combustion Engines | 5/1/06 | 9/28/06 71 FR 56881 | New Section.
Section 45-1-100 | Requirements for Emissions of NOX From Cement Manufacturing Kilns | 5/1/06 | 9/28/06 71 FR 56881
[45 CSR] Series 2 To Prevent and Control Particulate Air Pollution From Combustion of Fuel in Indirect Heat Exchangers
Section 45-2-1 | General | 8/31/00 | 8/11/03 68 FR 47473 | (c)(56)
Section 45-2-2 | Definitions | 8/31/00 | 8/11/03 68 FR 47473 | (c)(56)
Section 45-2-3 | Visible Emissions of Smoke and/or Particulate Matter Prohibited and Standards of Measurement | 8/31/00 | 8/11/03 68 FR 47473 | (c)(56)
Section 45-2-4 | Weight Emission Standards | 8/31/00 | 8/11/03 68 FR 47473 | (c)(56)
Section 45-2-5 | Control of Fugitive Particulate Matter | 8/31/00 | 8/11/03 68 FR 47473 | (c)(56)
Section 45-2-6 | Registration | 8/31/00 | 8/11/03 68 FR 47473 | (c)(56)
Section 45-2-7 | Permits | 8/31/00 | 8/11/03 68 FR 47473 | (c)(56)
Section 45-2-8 | Testing, Monitoring, Recordkeeping, and Reporting | 8/31/00 | 8/11/03 68 FR 47473 | (c)(56)
Section 45-2-9 | Start-ups, Shutdowns, and Malfunctions | 8/31/00 | 8/11/03 68 FR 47473 | (c)(56)
Section 45-2-10 | Variances | 8/31/00 | 8/11/03 68 FR 47473 | (c)(56)
Section 45-2-11 | Exemptions | 8/31/00 | 8/11/03 68 FR 47473 | (c)(56)
Section 45-2-12 | Inconsistency Between Rules | 8/31/00 | 8/11/03 68 FR 47473 | (c)(56)
Table 45-2A | [Total Allowable Particulate Matter Emission Rate for All Type ‘c’ Fuel Burning Units Located at One Plant] | 8/31/00 | 8/11/03 68 FR 47473 | (c)(56)
45CSR2 Appendix Compliance Test Procedures for 45CSR2
Section 1 | General | 8/31/00 | 8/11/03 68 FR 47473 | (c)(56)
Section 3 | Symbols | 8/31/00 | 8/11/03 68 FR 47473 | (c)(56)
Section 4 | Adoption of Test Methods | 8/31/00 | 8/11/03 68 FR 47473 | (c)(56)
Section 5 | Unit Load and Fuel Quality Requirements | 8/31/00 | 8/11/03 68 FR 47473 | (c)(56)
Section 6 | Minor Exceptions | 8/31/00 | 8/11/03 68 FR 47473 | (c)(56)
Section 7 | Pretest and Post Test General Requirements | 8/31/00 | 8/11/03 68 FR 47473 | (c)(56)
Section 8 | Heat Input Data Measurements | 8/31/00 | 8/11/03 68 FR 47473 | (c)(56)
Section 9 | Computations and Data Analysis | 8/31/00 | 8/11/03 68 FR 47473 | (c)(56)
[45 CSR] Series 3 To Prevent and Control Air Pollution From the Operation of Hot Mix Asphalt Plants
Section 45-3-1 | General | 8/31/00 | 10/11/02 67 FR 63270 | (c)(48)
Section 45-3-2 | Definitions | 8/31/00 | 10/11/02 67 FR 63270 | (c)(48)
Section 45-3-3 | Emission of Smoke and/or Particulate Matter Prohibited and Standards of Measurement—Visible | 8/31/00 | 10/11/02 67 FR 63270 | (c)(48)
Section 45-3-4 | Emission of Smoke and/or Particulate Matter Prohibited and Standards of Measurement—Weight Emissions | 8/31/00 | 10/11/02 67 FR 63270 | (c)(48)
Section 45-3-5 | Permits | 8/31/00 | 10/11/02 67 FR 63270 | (c)(48)
Section 45-3-6 | Reports and Testing | 8/31/00 | 10/11/02 67 FR 63270 | (c)(48)
Section 45-3-7 | Variance | 8/31/00 | 10/11/02 67 FR 63270 | (c)(48)
Section 45-3-8 | Circumvention | 8/31/00 | 10/11/02 67 FR 63270 | (c)(48)
Section 45-3-9 | Inconsistency Between Rules | 8/31/00 | 10/11/02 67 FR 63270 | (c)(48)
[45 CSR] Series 5 To Prevent and Control Air Pollution From the Operation of Coal Preparation Plants, Coal Handling Operations, and Coal Refuse Disposal Areas
Section 45-5-1 | General | 8/31/00 | 10/7/02 67 FR 62379 | (c)(47)
Section 45-5-2 | Definitions | 8/31/00 | 10/7/02 67 FR 62379 | (c)(47)
Section 45-5-3 | Emission of Particulate Matter Prohibited and Standards of Measurement | 8/31/00 | 10/7/02 67 FR 62379 | (c)(47)
Section 45-5-4 | Control and Prohibition of Particulate Emissions From Coal Thermal Drying Operations of a Coal Preparation Plant | 8/31/00 | 10/7/02 67 FR 62379 | (c)(47)
Section 45-5-5 | Control and Prohibition of Particulate Emissions From an Air Table Operation of a Coal Preparation Plant | 10/22/93 | 7/13/99 64 FR 37681 | (c)(42)
Section 45-5-6 | Control and Prohibition of Fugitive Dust Emissions From Coal Handling Operations and Preparation Plants | 8/31/00 | 10/7/02 67 FR 62379 | (c)(47)
Section 45-5-7 | Standards for Coal Refuse Disposal Areas | 8/31/00 | 10/7/02 67 FR 62379 | (c)(47)
Section 45-5-8 | Burning Coal Refuse Disposal Areas | 8/31/00 | 10/7/02 67 FR 62379 | (c)(47)
Section 45-5-9 | Monitoring of Operations | 8/31/00 | 10/7/02 67 FR 62379 | (c)(47)
Section 45-5-10 | Construction, Modification, and Relocation Permits | 8/31/00 | 10/7/02 67 FR 62379 | (c)(47)
Section 45-5-11 | Operating Permits | 8/31/00 | 10/7/02 67 FR 62379 | (c)(47)
Section 45-5-12 | Reporting and Testing | 8/31/00 | 10/7/02 67 FR 62379 | (c)(47)
Section 45-5-13 | Variance | 8/31/00 | 10/7/02 67 FR 62379 | (c)(47)
Section 45-5-14 | Transfer of Permits | 8/31/00 | 10/7/02 67 FR 62379 | (c)(47)
Section 45-5-15 | Inconsistency Between Rules | 8/31/00 | 10/7/02 67 FR 62379 | (c)(47)
Appendix | Particulate Emission Limitations and Operational Monitoring Requirements Applicable to Thermal Dryers Installed Before October 24, 1974 | 8/31/00 | 10/7/02 67 FR 62379 | (c)(47)
[45 CSR] Series 6 To Prevent and Control Air Pollution From Combustion of Refuse
Section 45-6-1 | General | 7/1/01 | 2/10/03 68 FR 6627 | (c)(51)
Section 45-6-2 | Definitions | 7/1/01 | 2/10/03 68 FR 6627 | (c)(51)
Section 45-6-3 | Open Burning Prohibited | 7/1/01 | 2/10/03 68 FR 6627 | (c)(51)
Section 45-6-4 | Emission Standards for Incinerators and Incineration | 7/1/01 | 2/10/03 68 FR 6627 | (c)(51)
Section 45-6-5 | Registration | 7/1/01 | 2/10/03 68 FR 6627 | (c)(51)
Section 45-6-6 | Permits | 7/1/01 | 2/10/03 68 FR 6627 | (c)(51)
Section 45-6-7 | Reports and Testing | 7/1/01 | 2/10/03 68 FR 6627 | (c)(51)
Section 45-6-8 | Variances | 7/1/01 | 2/10/03 68 FR 6627 | (c)(51)
Section 45-6-9 | Emergencies and Natural Disasters | 7/1/01 | 2/10/03 68 FR 6627 | (c)(51)
Section 45-6-10 | Effect of the Rule | 7/1/01 | 2/10/03 68 FR 6627 | (c)(51)
Section 45-6-11 | Inconsistency Between Rules | 7/1/01 | 2/10/03 68 FR 6627 | (c)(51)
[45 CSR] Series 7 To Prevent and Control Particulate Matter Air Pollution From Manufacturing Process Operations
Section 45-7-1 | General | 08/31/00 | 06/03/03 68 FR 33010 | (c)(55)
Section 45-7-2 | Definitions | 08/31/00 | 06/03/03 68 FR 33010 | (c)(55)
Section 45-7-3 | Emission of Smoke and/or Particulate Matter Prohibited and Standards of Measurement | 08/31/00 | 06/03/03 68 FR 33010 | (c)(55)
Section 45-7-4 | Control and Prohibition of Particulate Emissions by Weight From Manufacturing Process Source Operations | 08/31/00 | 06/03/03 68 FR 33010 | (c)(55)
Section 45-7-5 | Control of Fugitive Particulate Matter | 08/31/00 | 06/03/03 68 FR 33010 | (c)(55)
Section 45-7-6 | Registration | 08/31/00 | 06/03/03 68 FR 33010 | (c)(55)
Section 45-7-7 | Permits | 08/31/00 | 06/03/03 68 FR 33010 | (c)(55)
Section 45-7-8 | Reporting and Testing | 08/31/00 | 06/03/03 68 FR 33010 | (c)(55)
Section 45-7-9 | Variance | 08/31/00 | 06/03/03 68 FR 33010 | (c)(55)
Section 45-7-10 | Exemptions | 08/31/00 | 06/03/03 68 FR 33010 | (c)(55)
Section 45-7-11 | Alternative Emission Limits for Duplicate Source Operations | 08/31/00 | 06/03/03 68 FR 33010 | (c)(55)
Section 45-7-12 | Inconsistency Between Rules. | 08/31/00 | 06/03/03 68 FR 33010 | (c)(55)
Table 45-7A, Table 45-7B | [Maximum Allowable Emission Rates From Sources Governed by 45 CFR Series 7] | 08/31/00 | 06/03/03 68 FR 33010 | (c)(55)
[Ch. 16-20] TP-4 Compliance Test Procedures for Regulation VII—“To Prevent and Control Particulate Air Pollution From Manufacturing Process Operations”
Section 1 | General | 2/23/84 | 6/28/85 45 FR 26732 | no (c) number;
Section 2 | Visible Emission Test Procedure | 2/23/84 | 6/28/85 45 FR 26732 | no (c) number;
Section 3 | Mass Emission Test Procedures | 2/23/84 | 6/28/85 45 FR 26732 | no (c) number;
[45 CSR] Series 8 Ambient Air Quality Standards for Sulfur Oxides and Particulate Matter
Section 45-8-1 | General | 4/25/90 | 6/28/93 58 FR34526 | (c)(28)
Section 45-8-2 | Definitions | 4/25/90 | 6/28/93 58 FR34526 | (c)(28)
Section 45-8-3 | Ambient Air Quality Standards | 4/25/90 | 6/28/93 58 FR34526 | (c)(28)
Section 45-8-4 | Methods of Measurement | 4/25/90 | 6/28/93 58 FR34526 | (c)(28)
Section 45-8-5 | Inconsistency Between Regulations | 4/25/90 | 6/28/93 58 FR34526 | (c)(28)
[45 CSR] Series 9 Ambient Air Quality Standards for Carbon Monoxide and Ozone
Section 45-9-1 | General | 6/1/00 | 10/7/02 67 FR 62381 | (c)(50)
Section 45-9-2 | Anti-Degradation Policy | 6/1/00 | 10/7/02 67 FR 62381 | (c)(50)
Section 45-9-3 | Definitions | 6/1/00 | 10/7/02 67 FR 62381 | (c)(50)
Section 45-9-4 | Ambient Air Quality Standards | 6/1/00 | 10/7/02 67 FR 62381 | (c)(50)
Section 45-9-5 | Methods of Measurement | 6/1/00 | 10/7/02 67 FR 62381 | (c)(50)
[45 CSR] Series 10 To Prevent and Control Air Pollution From The Emission of Sulfur Oxides
Section 45-10-1 | General | 8/31/00 | 6/3/03 68 FR 33002 | (c)(53)
Section 45-10-2 | Definitions | 8/31/00 | 6/3/03 68 FR 33002 | (c)(53)
Section 45-10-3 | Sulfur Dioxide Weight Emission Standards for Fuel Burning Units | 8/31/00 | 6/3/03 68 FR 33002 | (c)(53)
Section 45-10-4 | Standards for Manufacturing Process Source Operations | 8/31/00 | 6/3/03 68 FR 33002 | (c)(53)
Section 45-10-5 | Combustion of Refinery or Process Gas Streams. | 8/31/00 | 6/3/03 68 FR 33002 | (c)(53)
Section 45-10-6 | Registration | 8/31/00 | 6/3/03 68 FR 33002 | (c)(53)
Section 45-10-7 | Permits | 8/31/00 | 6/3/03 68 FR 33002 | (c)(53)
Section 45-10-8 | Testing, Monitoring, Recordkeeping and Reporting | 8/31/00 | 6/3/03 68 FR 33002 | (c)(53)
Section 45-10-9 | Variance | 8/31/00 | 6/3/03 68 FR 33002 | (c)(53)
Section 45-10-10 | Exemptions and Recommendations | 8/31/00 | 6/3/03 68 FR 33002 | (c)(53)
Section 45-10-11 | Circumvention | 8/31/00 | 6/3/03 68 FR 33002 | (c)(53)
Section 45-10-12 | Inconsistency Between Rules | 8/31/00 | 6/3/03 68 FR 33002 | (c)(53)
Table 45-10A | [Priority Classifications] | 8/31/00 | 6/3/03 68 FR 33002 | (c)(53)
Table 45-10B | [Allowable Percent Sulfur Content of Fuels] | 8/31/00 | 6/3/03 68 FR 33002 | (c)(53)
[45 CSR] Series 11 Prevention of Air Pollution Emergency Episodes
Section 45-11-1 | General | 4/25/90 | 6/28/93 58 FR34526 | (c)(28)
Section 45-11-2 | Definitions | 4/25/90 | 6/28/93 58 FR34526 | (c)(28)
Section 45-11-3 | Episode Criteria | 4/25/90 | 6/28/93 58 FR34526 | (c)(28)
Section 45-11-4 | Methods of Measurement | 4/25/90 | 6/28/93 58 FR34526 | (c)(28)
Section 45-11-5 | Preplanned Reduction Strategies | 4/25/90 | 6/28/93 58 FR34526 | (c)(28)
Section 45-11-6 | Emission Reduction Plans | 4/25/90 | 6/28/93 58 FR34526 | (c)(28)
Table I | Emission Reduction Plans-Alert Level | 4/25/90 | 6/28/93 58 FR34526 | (c)(28)
Table II | Emission Reduction Plans-Warning Level | 4/25/90 | 6/28/93 58 FR34526 | (c)(28)
Table III | Emission Reduction Plans-Emergency Level | 4/25/90 | 6/28/93 58 FR34526 | (c)(28)
Section 45-11-7 | Air Pollution Emergencies; Contents of Order; Hearings; Appeals | 4/25/90 | 6/28/93 58 FR34526 | (c)(28)
Section 45-11-8 | Inconsistency Between Regulations | 4/25/90 | 6/28/93 58 FR34526 | (c)(28)
[45 CSR] Series 12 Ambient Air Quality Standard for Nitrogen Dioxide
Section 45-12-1 | General | 6/1/00 | 10/7/02 67 FR 62378 | (c)(49)
Section 45-12-2 | Anti-Degradation Policy | 6/1/00 | 10/7/02 67 FR 62378 | (c)(49)
Section 45-12-3 | Definitions | 6/1/00 | 10/7/02 67 FR 62378 | (c)(49)
Section 45-12-4 | Ambient Air Quality Standard | 6/1/00 | 10/7/02 67 FR 62378 | (c)(49)
Section 45-12-5 | Methods of Measurement | 6/1/00 | 10/7/02 67 FR 62378 | (c)(49)
[45 CSR] Series 13 Permits for Construction, Modification, Relocation and Operation of Stationary Sources of Air Pollutants, Notification Requirements, Temporary Permits, General Permits, and Procedures for Evaluation
Section 45-13-1 | General | 6/1/00 | 2/28/03 68 FR 9559 | (c)(52)
Section 45-13-2 | Definitions | 6/1/00 | 2/28/03 68 FR 9559 | (c)(52)
Section 45-13-3 | Reporting Requirements for Stationary Sources | 6/1/00 | 2/28/03 68 FR 9559 | (c)(52)
Section 45-13-4 | Administrative Updates to Existing Permits | 6/1/00 | 2/28/03 68 FR 9559 | (c)(52)
Section 45-13-5 | Permit Application and Reporting Requirements for Construction of and Modifications to Stationary Sources | 6/1/00 | 2/28/03 68 FR 9559 | (c)(52)
Section 45-13-6 | Determination of Compliance of Stationary Sources | 6/1/00 | 2/28/03 68 FR 9559 | (c)(52)
Section 45-13-7 | Modeling | 6/1/00 | 2/28/03 68 FR 9559 | (c)(52)
Section 45-13-8 | Public Review Procedures | 6/1/00 | 2/28/03 68 FR 9559 | (c)(52)
Section 45-13-9 | Public Meetings | 6/1/00 | 2/28/03 68 FR 9559 | (c)(52)
Section 45-13-10 | Permit Transfer, Suspension, Revocation and Responsibility | 6/1/00 | 2/28/03 68 FR 9559 | (c)(52)
Section 45-13-11 | Temporary Construction or Modification Permits | 6/1/00 | 2/28/03 68 FR 9559 | (c)(52)
Section 45-13-12 | Permit Application Fees | 6/1/00 | 2/28/03 68 FR 9559 | (c)(52)
Section 45-13-13 | Inconsistency Between Rules | 6/1/00 | 2/28/03 68 FR 9559 | (c)(52)
Section 45-13-14 | Statutory Air Pollution | 6/1/00 | 2/28/03 68 FR 9559 | (c)(52)
Section 45-13-15 | Hazardous Air Pollutants | 6/1/00 | 2/28/03 68 FR 9559 | (c)(52)
Table 45-13A | Potential Emission Rate | 6/1/00 | 2/28/03 68 FR 9559 | (c)(52)
Table 45-13B | De Minimus Sources | 6/1/00 | 2/28/03 68 FR 9559 | (c)(52)
[45 CSR] Series 14 Permits for Construction and Major Modification of Major Stationary Sources of Air Pollution for the Prevention of Significant Deterioration
Section 45-14-1 | General | 6/1/05 | 11/2/06 71 FR 64470 | SIP effective date is 12/04/06.
Section 45-14-2 (Except: 14-2.17, 14-2.40.i, 14-2.46.d.2, 14-2.46.g, and 14-2.56) | Definitions | 6/1/05 | 11/2/06 71 FR 64470 | SIP effective date is 12/04/06.
Section 45-14-3 (Except: 4-3.4.e, 14-3.4.f (part), and 14-3.6) | Applicability | 6/1/05 | 11/2/06 71 FR 64470 | New Section. SIP effective date is 12/04/06.
Section 45-14-4 | Ambient Air Quality Increments and Ceilings | 6/1/05 | 11/2/06 71 FR 64470 | Formerly Section 45-14-3; SIP effective date is 12/04/06.
Section 45-14-5 | Area Classification | 6/1/05 | 11/2/06 71 FR 64470 | Formerly Section 45-14-4; SIP effective date is 12/04/06.
Section 45-14-6 | Prohibition of Dispersion Enhancement Techniques | 6/1/05 | 11/2/06 71 FR 64470 | Formerly Section 45-14-5; SIP effective date is 12/04/06.
Section 45-14-7 | Registration, Report and Permit Requirements for Major Stationary Sources and Major Modifications | 6/1/05 | 11/2/06 71 FR 64470 | Formerly Section 45-14-6; SIP effective date is 12/04/06.
Section 45-14-8 | Requirements Relating to Control Technology | 6/1/05 | 11/2/06 71 FR 64470 | Formerly Section 45-14-7; SIP effective date is 12/04/06.
Section 45-14-9 | Requirements Relating to the Source's Impact on Air Quality | 6/1/05 | 11/2/06 71 FR 64470 | Formerly Section 45-14-8; SIP effective date is 12/04/06.
Section 45-14-10 | Modeling Requirements | 6/1/05 | 11/2/06 71 FR 64470 | Formerly Section 45-14-9.
Section 45-14-11 | Air Quality Monitoring Requirements | 6/1/05 | 11/2/06 71 FR 64470 | Formerly Section 45-14-10; SIP effective date is 12/04/06.
Section 45-14-12 | Additional Impacts Analysis Requirements | 6/1/05 | 11/2/06 71 FR 64470 | Formerly Section 45-14-11; SIP effective date is 12/04/06.
Section 45-14-13 | Additional Requirements and Variances for Sources Impacting Federal Class I Areas | 6/1/05 | 11/2/06 71 FR 64470 | Formerly Section 45-14-12; SIP effective date is 12/4/06.
Section 45-14-14 | Procedures for Sources Employing Innovative Control Technology | 6/1/05 | 11/2/06 71 FR 64470 | Formerly Section 45-14-13; SIP effective date is 12/4/06.
Section 45-14-15 | Exclusions From Increment Consumption | 6/1/05 | 11/2/06 71 FR 64470 | Formerly Section 45-14-14; SIP effective date is 12/4/06.
Section 45-14-16 | Specific Exemptions | 6/1/05 | 11/2/06 71 FR 64470 | Formerly Section 45-14-15; SIP effective date is 12/4/06.
Section 45-14-17 | Public Review Procedures | 6/1/05 | 11/2/06 71 FR 64470 | Formerly Section 45-14-16; SIP effective date is 12/04/06.
Section 45-14-18 | Public Meetings | 6/1/05 | 11/2/06 71 FR 64470 | Formerly Section 45-14-17; SIP effective date is 12/4/06.
Section 45-14-19 (except part of 19-19.8) | Permit Transfer, Cancellation, and Responsibility | 6/1/05 | 11/2/06 71 FR 64470 | Formerly Section 45-14-18; SIP effective date is 12/4/06.
Section 45-14-20 | Disposition of Permits | 6/1/05 | 11/2/06 71 FR 64470 | Formerly Section 45-14-19; SIP effective date is 12/4/06.
Section 45-14-21 | Conflict with Other Permitting Rules | 6/1/05 | 11/2/06 71 FR 64470 | Formerly Section 45-14-20; SIP effective date is 12/4/06.
Section 45-14-25 | Actuals PALs | 6/1/05 | 11/2/06 71 FR 64470 | New Section. SIP effective date is 12/4/06.
Section 45-14-26 | Inconsistency Between Rules | 6/1/05 | 11/2/06 71 FR 64470 | New Section. SIP effective date is 12/4/06.
[45 CSR] Series 19 Permits for Construction and Major Modification of Major Stationary Sources of Air Pollution Which Cause or Contribute to Nonattainment
Section 45-19-1 | General | 6/1/05 | 11/2/06 71 FR 64468 | SIP effective date is 12/4/06.
Section 45-19-2 (Except: 19-2.16, 19-2.33.c.8, 19-2.39.b.2.C, 19-2.39.b.5, and 19-2.53) | Definitions | 6/1/05 | 11/2/06 71 FR 64468 | SIP effective date is 12/4/06.
Section 45-19-3 (Except: 19-3.4.e, 19-3.4.f (part), and 19-3.6) | Applicability | 6/1/05 | 11/2/06 71 FR 64468 | SIP effective date is 12/4/06.
Section 45-19-4 | Conditions for a Permit Approval for Proposed Major Sources that Would Contribute to a Violation of NAAQS | 6/1/05 | 11/2/06 71 FR 64468 | SIP effective date is 12/4/06.
Section 45-19-5 | Conditions for Permit Approval for Sources Locating In Attainment or Unclassifiable Areas that Would Cause a New Violation of a NAAQS | 6/1/05 | 11/2/06 71 FR 64468 | SIP effective date is 12/4/06.
Section 45-19-7 | Baseline for Determining Credit for Emission Offsets | 6/1/05 | 11/2/06 71 FR 64468 | SIP effective date is 12/4/06.
Section 45-19-8 | Location of Emissions Offsets | 6/1/05 | 11/2/06 71 FR 64468 | SIP effective date is 12/4/06.
Section 45-19-9 | Administrative Procedures for Emission Offset Proposals | 6/1/05 | 11/2/06 71 FR 64468 | SIP effective date is 12/4/06.
Section 45-19-12 | Reasonable Further Progress | 6/1/05 | 11/2/06 71 FR 64468 | SIP effective date is 12/4/06.
Section 45-19-13 | Source Impact Analysis | 6/1/05 | 11/2/06 71 FR 64468 | SIP effective date is 12/4/06.
Section 45-19-14 | Permit Requirements for Major Stationary Sources and Major Modifications | 6/1/05 | 11/2/06 71 FR 64468 | SIP effective date is 12/4/06.
Section 45-19-15 | Public Review Procedures | 6/1/05 | 11/2/06 71 FR 64468 | SIP effective date is 12/4/06.
Section 45-19-16 | Public Meetings | 6/1/05 | 11/2/06 71 FR 64468 | SIP effective date is 12/4/06.
Section 45-19-17 (Except part of 19-17.4) | Permit Transfer, Cancellation and Responsibility | 6/1/05 | 11/2/06 71 FR 64468 | SIP effective date is 12/4/06.
Section 45-19-18 | Disposition of Permits | 6/1/05 | 11/2/06 71 FR 64468 | SIP effective date is 12/4/06.
Section 45-19-19 | Requirements for Air Quality Models | 6/1/05 | 11/2/06 71 FR 64468 | SIP effective date is 12/4/06.
Section 45-19-23 | Actuals PAL | 6/1/05 | 11/2/06 71 FR 64468 | SIP effective date is 12/4/06.
Section 45-19-24 | Conflict with Other Permitting Rules | 6/1/05 | 11/2/06 71 FR 64468 | SIP effective date is 12/4/06.
Section 45-19-25 | Inconsistency Between Rules | 6/1/05 | 11/2/06 71 FR 64468 | SIP effective date is 12/4/06.
Table 45-19A | No Title [Table of Significance Levels] | 6/1/05 | 11/2/06 71 FR 64468 | SIP effective date is 12/4/06.
Table 45-19B | Averaging Time (hours) | 6/1/05 | 11/2/06 71 FR 64468 | SIP effective date is 12/4/06.
[45 CSR] Series 20 Good Engineering Practice as Applicable to Stack Heights
Section 45-20-1 | General | 7/14/89 | 4/19/94 59 FR 18489 | (c)(27)
Section 45-20-2 | Definitions | 7/14/89 | 4/19/94 59 FR 18489 | (c)(27)
Section 45-20-3 | Standards | 7/14/89 | 4/19/94 59 FR 18489 | (c)(27)
Section 45-20-4 | Public Review Procedures | 7/14/89 | 4/19/94 59 FR 18489 | (c)(27)
Section 45-20-5 | Inconsistency Between Regulations | 7/14/89 | 4/19/94 59 FR 18489 | (c)(27)
[45 CSR] Series 21 Regulation to Prevent and Control Air Pollution From the Emission of Volatile Organic Compounds
Section 45-21-1 | General | 7/7/93 | 2/1/95 60 FR 6022 | (c)(33)
Section 45-21-2 | Definitions | 7/7/93 | 2/1/95 60 FR 6022 | (c)(33)
Section 45-21-3 | Applicability | 7/7/93 | 2/1/95 60 FR 6022 | (c)(33)
Section 45-21-4 | Compliance Certification, Recordkeeping, and Reporting Procedures for Coating Sources | 7/7/93 | 2/1/95 60 FR 6022 | (c)(33)
Section 45-21-5 | Compliance Certification, Recordkeeping, and Reporting Requirements for Non-Coating Sources | 7/7/93 | 2/1/95 60 FR 6022 | (c)(33)
Section 45-21-6 | Requirements for Sources Complying by Use of Control Devices | 7/7/93 | 2/1/95 60 FR 6022 | (c)(33)
Section 45-21-7 | Circumvention | 7/7/93 | 2/1/95 60 FR 6022 | (c)(33)
Section 45-21-8 | Handling, Storage, and Disposal of Volatile Organic Compounds (VOCs) | 7/7/93 | 2/1/95 60 FR 6022 | (c)(33)
Section 45-21-9 | Compliance Programs, Registration, Variance, Permits, Enforceability | 7/7/93 | 2/1/95 60 FR 6022 | (c)(33)
Section 45-21-11 | Can Coating | 7/7/93 | 2/1/95 60 FR 6022 | (c)(33)
Section 45-21-12 | Coil Coating | 7/7/93 | 2/1/95 60 FR 6022 | (c)(33)
Section 45-21-14 | Fabric Coating | 7/7/93 | 2/1/95 60 FR 6022 | (c)(33)
Section 45-21-15 | Vinyl Coating | 7/7/93 | 2/1/95 60 FR 6022 | (c)(33)
Section 45-21-16 | Coating of Metal Furniture | 7/7/93 | 2/1/95 60 FR 6022 | (c)(33)
Section 45-21-17 | Coating of Large Appliances | 7/7/93 | 2/1/95 60 FR 6022 | (c)(33)
Section 45-21-18 | Coating of Magnet Wire | 7/7/93 | 2/1/95 60 FR 6022 | (c)(33)
Section 45-21-19 | Coating of Miscellaneous Metal Parts | 7/7/93 | 2/1/95 60 FR 6022 | (c)(33)
Section 45-21-21 | Bulk Gasoline Plants | 7/7/93 | 2/1/95 60 FR 6022 | (c)(33)
Section 45-21-22 | Bulk Gasoline Terminals | 7/7/93 | 2/1/95 60 FR 6022 | (c)(33)
Section 45-21-23 | Gasoline Dispensing Facility—Stage I Vapor Recovery | 7/7/93 | 2/1/95 60 FR 6022 | (c)(33)
Section 45-21-24 | Leaks From Gasoline Tank Trucks | 7/7/93 | 2/1/95 60 FR 6022 | (c)(33)
Section 45-21-25 | Petroleum Refinery Sources | 7/7/93 | 2/1/95 60 FR 6022 | (c)(33)
Section 45-21-26 | Leaks From Petroleum Refinery Equipment | 7/7/93 | 2/1/95 60 FR 6022 | (c)(33)
Section 45-21-27 | Petroleum Liquid Storage in External Floating Roof Tanks | 7/7/93 | 2/1/95 60 FR 6022 | (c)(33)
Section 45-21-28 | Petroleum Liquid Storage in Fixed Roof Tanks | 7/7/93 | 2/1/95 60 FR 6022 | (c)(33)
Section 45-21-29 | Leaks From Natural Gas/Gasoline Processing Equipment | 7/7/93 | 2/1/95 60 FR 6022 | (c)(33)
Section 45-21-31 | Cutback and Emulsified Asphalt | 7/7/93 | 2/1/95 60 FR 6022 | (c)(33)
Section 45-21-39 | Air Oxidation Processes in the Synthetic Organic Chemical Manufacturing Industry | 7/7/93 | 2/1/95 60 FR 6022 | (c)(33)
Section 45-21-41 | Test Methods and Compliance Procedures: General Provisions | 7/7/93 | 2/1/95 60 FR 6022 | (c)(33)
Section 45-21-42 | Test Methods and Compliance Procedures: Determining the Volatile Organic Compound (VOC) Content of Coatings and Inks | 7/7/93 | 2/1/95 60 FR 6022 | (c)(33)
Section 45-21-43 | Test Methods and Compliance Procedures: Alternative Compliance Methods for Surface Coating | 7/7/93 | 2/1/95 60 FR 6022 | (c)(33)
Section 45-21-44 | Test Methods and Compliance Procedures: Emission Capture and Destruction or Removal Efficiency and Monitoring Requirements | 7/7/93 | 2/1/95 60 FR 6022 | (c)(33)
Section 45-21-45 | Test Methods and Compliance Procedures: Determining the Destruction or Removal Efficiency of a Control Device | 7/7/93 | 2/1/95 60 FR 6022 | (c)(33)
Section 45-21-46 | Test Methods and Compliance Procedures: Leak Detection Methods for Volatile Organic Compounds (VOCs) | 7/7/93 | 2/1/95 60 FR 6022 | (c)(33)
Section 45-21-47 | Performance Specifications for Continuous Emissions Monitoring of Total Hydrocarbons | 7/7/93 | 2/1/95 60 FR 6022 | (c)(33)
Section 45-21-48 | Quality Control Procedures for Continuous Emission Monitoring Systems (CEMS) | 7/7/93 | 2/1/95 60 FR 6022 | (c)(33)
Appendix A | VOC Capture Efficiency | 7/7/93 | 2/1/95 60 FR 6022 | (c)(33)
[45 CSR] Series 26 NOX Budget Trading Program as a Means of Control and Reduction of Nitrogen Oxides From Electric Generating Units
Section 45-26-1 | General | 5/1/02 | 5/10/02 67 FR 31733 | (c)(46)
Section 45-26-2 | Definitions | 5/1/02 | 5/10/02 67 FR 31733 | (c)(46)
Section 45-26-3 | Measurements, Abbreviations and Acronyms | 5/1/02 | 5/10/02 67 FR 31733 | (c)(46)
Section 45-26-4 | NOX Budget Trading Program Applicability | 5/1/02 | 5/10/02 67 FR 31733 | (c)(46)
Section 45-26-5 | Retired Unit Exemption | 5/1/02 | 5/10/02 67 FR 31733 | (c)(46)
Section 45-26-6 | NOX Budget Trading Program Standard Requirements | 5/1/02 | 5/10/02 67 FR 31733 | (c)(46)
Section 45-26-7 | Computation of Time | 5/1/02 | 5/10/02 67 FR 31733 | (c)(46)
Section 45-26-10 | Authorization and Responsibilities of the NOX Authorized Account Representative | 5/1/02 | 5/10/02 67 FR 31733 | (c)(46)
Section 45-26-11 | Alternate NOX Authorized Account Representative | 5/1/02 | 5/10/02 67 FR 31733 | (c)(46)
Section 45-26-12 | Changing the NOX Authorized Account Representative and the Alternate NOX Authorized Account Representative; Changes in Owners and Operators | 5/1/02 | 5/10/02 67 FR 31733 | (c)(46)
Section 45-26-13 | Account Certificate of Representation | 5/1/02 | 5/10/02 67 FR 31733 | (c)(46)
Section 45-26-14 | Objections Concerning the NOX Authorized Account Representative | 5/1/02 | 5/10/02 67 FR 31733 | (c)(46)
Section 45-26-20 | General NOX Budget Trading Program Permit Requirements | 5/1/02 | 5/10/02 67 FR 31733 | (c)(46)
Section 45-26-21 | NOX Budget Permit Applications | 5/1/02 | 5/10/02 67 FR 31733 | (c)(46)
Section 45-26-22 | Information Requirements for NOX Budget Permit Applications | 5/1/02 | 5/10/02 67 FR 31733 | (c)(46)
Section 45-26-23 | NOX Budget Permit Contents | 5/1/02 | 5/10/02 67 FR 31733 | (c)(46)
Section 45-26-24 | NOX Budget Permit Revisions | 5/1/02 | 5/10/02 67 FR 31733 | (c)(46)
Section 45-26-30 | Compliance Certification Report | 5/1/02 | 5/10/02 67 FR 31733 | (c)(46)
Section 45-26-31 | Secretary's and Administrator's Action on Compliance Certifications | 5/1/02 | 5/10/02 67 FR 31733 | (c)(46)
Section 45-26-40 | State NOX Trading Program Budget | 5/1/02 | 5/10/02 67 FR 31733 | (c)(46)
Section 45-26-41 | Timing Requirements for State NOX Allowance Allocations | 5/1/02 | 5/10/02 67 FR 31733 | (c)(46)
Section 45-26-42 | State NOX Allowance Allocations | 5/1/02 | 5/10/02 67 FR 31733 | (c)(46)
Section 45-26-43 | Compliance Supplement Pool | 5/1/02 | 5/10/02 67 FR 31733 | (c)(46)
Section 45-26-50 | NOX Allowance Tracking System Accounts | 5/1/02 | 5/10/02 67 FR 31733 | (c)(46)
Section 45-26-51 | Establishment of Accounts | 5/1/02 | 5/10/02 67 FR 31733 | (c)(46)
Section 45-26-52 | NOX Allowance Tracking System Responsibilities of NOX Authorized Account Representative | 5/1/02 | 5/10/02 67 FR 31733 | (c)(46)
Section 45-26-53 | Recordation of NOX Allowance Allocations | 5/1/02 | 5/10/02 67 FR 31733 | (c)(46)
Section 45-26-54 | Compliance | 5/1/02 | 5/10/02 67 FR 31733 | (c)(46)
Section 45-26-55 | NOX Allowance Banking | 5/1/02 | 5/10/02 67 FR 31733 | (c)(46)
Section 45-26-56 | Account Error | 5/1/02 | 5/10/02 67 FR 31733 | (c)(46)
Section 45-26-57 | Closing of General Accounts | 5/1/02 | 5/10/02 67 FR 31733 | (c)(46)
Section 45-26-60 | Submission of NOX Allowance Transfers | 5/1/02 | 5/10/02 67 FR 31733 | (c)(46)
Section 45-26-61 | Allowance Transfer Recordation | 5/1/02 | 5/10/02 67 FR 31733 | (c)(46)
Section 45-26-62 | Notification | 5/1/02 | 5/10/02 67 FR 31733 | (c)(46)
Section 45-26-70 | General Monitoring Requirements | 5/1/02 | 5/10/02 67 FR 31733 | (c)(46)
Section 45-26-71 | Initial Certification and Recertification Procedures | 5/1/02 | 5/10/02 67 FR 31733 | (c)(46)
Section 45-26-72 | Out of Control Periods | 5/1/02 | 5/10/02 67 FR 31733 | (c)(46)
Section 45-26-73 | Notifications | 5/1/02 | 5/10/02 67 FR 31733 | (c)(46)
Section 45-26-74 | Recordkeeping and Reporting | 5/1/02 | 5/10/02 67 FR 31733 | (c)(46)
Section 45-26-75 | Petitions | 5/1/02 | 5/10/02 67 FR 31733 | (c)(46)
Section 45-26-76 | Additional Requirements to Provide Heat Input Data | 5/1/02 | 5/10/02 67 FR 31733 | (c)(46)
[45 CSR] Series 29 Rule Requiring the Submission of Emission Statements for Volatile Organic Compound Emissions and Oxides of Nitrogen Emissions
Section 45-29-1 | General | 7/7/93 | 8/4/95 60 FR 39855 | (c)(34)
Section 45-29-2 | Definitions | 7/7/93 | 8/4/95 60 FR 39855 | (c)(34)
Section 45-29-3 | Applicability | 7/7/93 | 8/4/95 60 FR 39855 | (c)(34)
Section 45-29-4 | Compliance Schedule | 7/7/93 | 8/4/95 60 FR 39855 | (c)(34)
Section 45-29-5 | Emission Statement Requirements | 7/7/93 | 8/4/95 60 FR 39855 | (c)(34)
Section 45-29-6 | Enforceability | 7/7/93 | 8/4/95 60 FR 39855 | (c)(34)
Section 45-29-7 | Severability | 7/7/93 | 8/4/95 60 FR 39855 | (c)(34)
[45 CSR] Series 35 Requirements for Determining Conformity of General Federal Actions to Applicable Air Quality Implementation Plans (General Conformity)
Section 45-35-1 | General | 5/1/95 | 9/5/95 60 FR 46029 | (c)(37)
Section 45-35-2 | Definitions | 5/1/95 | 9/5/95 60 FR 46029 | (c)(37)
Section 45-35-3 | Adoption of Criteria, Procedures and Requirements | 5/1/95 | 9/5/95 60 FR 46029 | (c)(37)
Section 45-35-4 | Requirements | 5/1/95 | 9/5/95 60 FR 46029 | (c)(37)

(d) EPA approved state source-specific requirements.

EPA-Approved Source Specific Requirements
Source name | Permit/order or registration number | State effective date | EPA approval date | Additional explanation/citation at 40 CFR § 52.2565
Mountaineer Carbon Co | Consent Order | 7/2/82 | 9/1/82 47 FR 38532 | (c)(18)
National Steel Corp.—Weirton Steel Division | Consent Order (Bubble) | 7/6/82 | 12/9/82 47 FR 55396 | (c)(19)
Columbia Gas Transmission Corporation—Lost River Station | Consent Order | 9/12/90 | 4/24/91 56 FR 18733 | (c)(24)
Wheeling-Pittsburgh Steel Corp | Consent Order CO-SIP-91-29 | 11/14/91 | 7/25/94 59 FR 37696 | (c)(26)
Standard Lafarge | Consent Order CO-SIP-91-30 | 11/14/91 | 7/25/94 59 FR 37696 | (c)(26)
Follansbee Steel Corp | Consent Order CO-SIP-91-31 | 11/14/91 | 7/25/94 59 FR 37696 | (c)(26)
Koppers Industries, Inc | Consent Order CO-SIP-91-32 | 11/14/91 | 7/25/94 59 FR 37696 | (c)(26)
International Mill Service, Inc | Consent Order CO-SIP-91-33 | 11/14/91 | 7/25/94 59 FR 37696 | (c)(26)
Starvaggi Industries, Inc | Consent Order CO-SIP-91-34 | 11/14/91 | 7/25/94 59 FR 37696 | (c)(26)
Quaker State Corporation | Consent Order CO-SIP-95-1 | 1/9/95 | 11/27/96 61 FR 60191 | (c)(35)
Weirton Steel Corporation | Consent Order CO-SIP-95-2 | 1/9/95 | 11/27/96 61 FR 60191 | (c)(35)
PPG Industries, Inc | Consent Order CO-SIP-2000-1 | 1/25/00 | 8/2/00 65 FR 47339 | (c)(44)(i)(B)(1)
Bayer Corporation | Consent Order CO-SIP-2000-2 | 1/26/00 | 8/2/00 65 FR 47339 | (c)(44)(i)(B)(2)
Columbian Chemicals Company | Consent Order CO-SIP-2000-3 | 1/31/00 | 8/2/00 65 FR 47339 | (c)(44)(i)(B)(3)
PPG Industries, Inc | Consent Order CO-SIP-C-2003-27 | 7/29/03 | 4/28/04 69 FR 23110 | (c)(58)
Wheeling-Pittsburgh Steel Corporation | Operating Permit R13-1939A | 8/19/03 | 05/05/04 69 FR 24986 | (c)(59)(i)(B)(1)
Weirton Steel Corporation | Consent Order, CO-SIP-C-2003-28 | 8/4/03 | 05/05/04 69 FR 24986 | (c)(59)(i)(B)(2)

* * * * *

[FR Doc. E7-3318 Filed 2-27-07; 8:45 am]

BILLING CODE 6560-50-P